DEPARTMENT OF DEFENSE

Office of the Secretary

[Docket ID DoD-2019-OS-0070]

Submission for OMB Review; Comment Request

AGENCY: USTRANSCOM, DoD.

ACTION: 30-Day information collection notice.

SUMMARY: The Department of Defense has submitted to OMB for clearance the following proposal for collection of information under the provisions of the Paperwork Reduction Act.

DATES: Consideration will be given to all comments received by October 11, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: SDDC Transportation Financial Management System (TFMS) Access Request; SDDC Form 417; OMB Control Number 0704-XXXX.

Type of Request: Extension.

Number of Respondents: 984.

Responses per Respondent: 1.

Annual Responses: 984.

Average Burden Per Response: 10 minutes.

Annual Burden Hours: 164.

Needs and Uses: The information collection requirement is necessary to establish Human Resource (HR) accounts within the Transportation Financial Management System (TFMS) for the Military Surface Deployment and Distribution Command (SDDC). The HR account is linked to the supplier module for payment of entitlements (Defense Travel System (DTS)). The information is also linked to the Defense Civilian Pay system (DCPS) for payment of civilian personnel for entitlements. The information is also used to establish and control user accounts in TFMS.

Affected Public: Individuals or Households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: September 6, 2019.
Aaron T. Siegel,
Alternate OSD Federal Register Liaison Officer, Department of Defense.

[FR Doc. 2019-19644 Filed 9-10-19; 8:45 am]

BILLING CODE 5001-06-P